DEPARTMENT OF EDUCATION

[Docket ID ED-2023-FSA-0056]

Privacy Act of 1974; Matching Program

AGENCY: Federal Student Aid, Department of Education.

ACTION: Notice of a new computer matching agreement.

SUMMARY: This document provides notice of a new Computer Matching Agreement (CMA) between the U.S. Department of Education (the Department) and the Department of Defense (DoD). The current 18-month CMA was recertified for an additional 12 months on September 1, 2022, and will automatically expire on August 31, 2023. (Note: The intention of the CMA is to match only those originally or currently covered by section 473(b)(3)(A) of the HEA.)

DATES: Submit your comments on the proposed CMA on or before September 5, 2023.

The CMA will be effective the later of: (1) September 1, 2023, or (2) 30 days after the publication of this notice, on August 3, 2023, unless comments have been received from interested members of the public requiring modification and republication of the notice. The CMA will continue for 13 months after the effective date of the CMA if the conditions specified in sections 420R and 473(b) of the Higher Education Act (HEA) (20 U.S.C. 1070h), 473(b) of the HEA (20 U.S.C. 1087mm(b)(3)) (prior to FAFSA Simplification Act implementation on July 1, 2024) and section 401(c) of the HEA (following FAFSA Simplification Act implementation), and in accordance with the Privacy Act of 1974, as amended (5 U.S.C. 552a), have been met. (Note: The intention of the matching program is to match applicants seeking eligibility for the DoD Iraq Afghanistan Service Grant (IASG) only through Award Year 2023-2024. The period between July 1 and September 30, 2024, will only be for “reconciliation” transactions for AY 2023-2024 applicants, who are subject to the pre-FAFSA Simplification Act requirements of the HEA).

ADDRESSES: Comments must be submitted via the Federal eRulemaking Portal at regulations.gov. However, if you require an accommodation or cannot otherwise submit your comments via regulations.gov, please contact the program contact person listed under FOR FURTHER INFORMATION CONTACT. The Department will not accept comments submitted by fax or by email, or comments submitted after the comment period. To ensure that the Department does not receive duplicate copies, please submit your comments only once. In addition, please include the Docket ID at the top of your comments.

Federal eRulemaking Portal: Go to www.regulations.gov to submit your comments electronically. Information on using Regulations.gov, including instructions for accessing agency documents, submitting comments, and viewing the docket, is available on the site under the “FAQ” tab.

Privacy Note: The Department's policy is to make all comments received from members of the public available for public viewing in their entirety on the Federal eRulemaking Portal at www.regulations.gov. Therefore, commenters should be careful to include in their comments only information that they wish to make publicly available.

FOR FURTHER INFORMATION CONTACT: Gerard Duffey, Management and Program Analyst, U.S. Department of Education, Federal Student Aid. Telephone: (215) 656-3249.

SUPPLEMENTARY INFORMATION: In accordance with the Privacy Act; OMB Final Guidance Interpreting the Provisions of Public Law 100-503, the Computer Matching and Privacy Protection Act of 1988, published in the Federal Register on June 19, 1989 (54 FR 25818); and OMB Circular No.A-108, notice is hereby provided of the re-establishment of the matching program between ED and DoD.

The Secretary of Defense must provide the Secretary of Education with information to identify the children of military personnel who have died as a result of their performing military service in Iraq or Afghanistan after September 11, 2001, to determine if the child is eligible for increased amounts of title IV, HEA program assistance.

Participating Agencies: The Department of Education (the Department) and the Department of Defense (DoD).

Authority for Conducting the Matching Program: ED and DoD are authorized to participate in the matching program under sections 420R and 473(b) of the HEA (20 U.S.C. 1070h and 20 U.S.C. 1087mm(b)) (prior to FAFSA Simplification Act implementation on July 1, 2024) and section 401(c) of the HEA (following FAFSA Simplification Act implementation). The legal authority for ED and DoD to disclose information under the matching program also includes subsection (b)(3) of the Privacy Act (5 U.S.C. 552a(b)(3)).

Purpose(s): The purpose of this matching program between ED and DoD is to identify children whose parent or guardian was a member of the Armed Forces of the United States and died as a result of performing military service in Iraq or Afghanistan after September 11, 2001. These children (referred to as qualifying students) may be eligible for a greater amount of title IV, HEA program assistance. A qualifying student must have been age 24 or younger at the time of the parent's or guardian's death, or, if older than 24, enrolled part-time or full-time in an institution of higher education at the time of the parent's or guardian's death. (Note: The intention of the matching program is to match applicants seeking eligibility for the DoD IASG only through Award Year 2023-2024. The period between July 1 and September 30, 2024, will only be for “reconciliation” transactions for AY 2023-2024 applicants, who are subject to the pre-FAFSA Simplification Act requirements of the HEA).

Verification by this matching program provides an efficient and comprehensive method of identifying students whose parent or guardian was a member of the Armed Forces of the United States and died as a result of performing military service in Iraq or Afghanistan after September 11, 2001.

Categories of Individuals: The individuals whose records are included in this matching program are dependents of service personnel who died as a result of performing their Armed Forces military service in Iraq or Afghanistan after September 11, 2001, whose records are located in the DoD Defense Manpower Data Center (DMDC) Database (76 FR 72391) (November 23, 2011), and the Defense Enrollment Eligibility Reporting System (DEERS) (81 FR 49210) (July 27, 2016), and all students who complete a Free Application for Federal Student Aid (FAFSA).

Categories of Records: DoD uses the following data elements in this matching program: Dependent's Name, Date of Birth and Social Security Number (SSN)—extracted from DEERS; and Parent or Guardian's Date of Death—extracted from the DMDC Data Base. ED uses the SSN, date of birth, and the first two letters of an applicant's last name to match applicant records.

System(s) of Records: ED system of records: Aid Awareness and Application Processing (18-11-21)—published in the Federal Register on September 13, 2022 (87 FR 56026), and available at: https://www.federalregister.gov/documents/2022/09/13/2022-19890/privacy-act-of-1974-system-of-records. Note: The Central Processing System (CPS) will process data from the FAFSA for applicants seeking eligibility for the DoD IASG only through Award Year 2023-2024. The period between July 1 and September 30, 2024, will only be for “reconciliation” transactions for AY 2023-2024 applicants, who are subject to the pre-FAFSA Simplification Act requirements of the HEA. This CMA will not be used for applicants after AY 2023-2024.

DoD system of records: DMDC 01, Defense Manpower Data Center Data Base (87 FR 32145) (May 25, 2022), and DMDC 02 DoD Defense Enrollment Eligibility Reporting Systems (DEERS) (87 FR 32384) (May 25, 2022).

Accessible Format: By request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Richard Cordray,
Chief Operating Officer, Federal Student Aid.

[FR Doc. 2023-16563 Filed 8-2-23; 8:45 am]

BILLING CODE 4000-01-P